DEPARTMENT OF THE INTERIOR

National Park Service

[NPS-WASO-NAGPRA-NPS0040239; PPWOCRADN0-PCU00RP14.R50000]

Notice of Intended Repatriation: Los Angeles County Museum of Natural History, Los Angeles, CA

AGENCY: National Park Service, Interior.

ACTION: Notice.

SUMMARY: In accordance with the Native American Graves Protection and Repatriation Act (NAGPRA), the Los Angeles County Museum of Natural History (LACMNH) intends to repatriate certain cultural items that meet the definition of unassociated funerary objects or objects of cultural patrimony and that have a cultural affiliation with the Indian Tribes or Native Hawaiian organizations in this notice.

DATES: Repatriation of the cultural items in this notice may occur on or after July 3, 2025.

ADDRESSES: Send additional, written requests for repatriation of the cultural items in this notice to Amy E. Gusick, NAGPRA Officer, Los Angeles County Museum of Natural History, 900 Exposition Boulevard, Los Angeles, CA 90007, email agusick@nhm.org.

SUPPLEMENTARY INFORMATION: This notice is published as part of the National Park Service's administrative responsibilities under NAGPRA. The determinations in this notice are the sole responsibility of the LACMNH, and additional information on the determinations in this notice, including the results of consultation, can be found in the summary or related records. The National Park Service is not responsible for the determinations in this notice.

Abstract of Information Available

A total of 11 cultural items have been requested for repatriation. The two unassociated funerary objects are a ceramic jar and a ceramic figurine. The nine objects of cultural patrimony are six lots of potsherds, two ceramic jars, and a mano fragment. These 11 cultural items were removed from within Riverside County, California, at various times. In 1935, Frederick Ferguson Taylor II collected a ceramic figurine from Taylor Ranch near Highway 74 in Palm Desert, purportedly near a burial. Robert J. Raring donated this figurine to LACMNH in 1971. In 1923, Anna Wilson donated a ceramic jar that was found in the mountains near Indian Wells in Coachella Valley to LACMNH. In 1971, the Native Daughters of the Golden West, Tijera Parlor Chapter, donated pot sherds and a mano fragment, collected by Carl D. Hegner in Palm Springs, to LACMNH. In 1961, the California Institute of Technology donated pot sherds found North-East of Whitewater (between Palm Springs and Cabazon) to LACMNH. In 1941, H. A.Van Horman donated a ceramic jar found at an aqueduct near Palm Springs or Indio, to LACMNH. In 1927, W.M. Wellborn donated a ceramic jar found near Edom to LACMNH. Pot sherds from the Coachella Valley area were found at an unknown time. The circumstances around LACMNH's acquisition of these potsherds is unknown.

Determinations

The LACMNH has determined that:

• The two unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The nine objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Agua Caliente Band of Cahuilla Indians of the Agua Caliente Indian Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 3, 2025. If competing requests for repatriation are received, the LACMNH must determine the most appropriate requestor prior to repatriation. Requests for joint repatriation of the cultural items are considered a single request and not competing requests. The LACMNH is responsible for sending a copy of this notice to the Indian Tribes and Native Hawaiian organizations identified in this notice and to any other consulting parties.

Authority: Native American Graves Protection and Repatriation Act, 25 U.S.C. 3004 and the implementing regulations, 43 CFR 10.9.

Dated: May 21, 2025.
Melanie O'Brien,
Manager, National NAGPRA Program.

[FR Doc. 2025-10021 Filed 6-2-25; 8:45 am]

BILLING CODE 4312-52-P